NUCLEAR REGULATORY COMMISSION

[NRC-2014-0040]

Monitoring of Neutron-Absorbing Materials in Spent Fuel Pools

AGENCY: Nuclear Regulatory Commission.

ACTION: Draft generic letter; public meeting and request for comment.

SUMMARY: The U.S. Nuclear Regulatory Commission (NRC) is issuing this draft generic letter to address degradation of neutron-absorbing materials in the spent fuel pool (SFP). The NRC has determined that it is necessary to obtain plant-specific information requested in the draft generic letter so that the NRC can determine if the degradation of the neutron-absorbing materials in the SFP is being managed to maintain reasonable assurance that the materials are capable of performing their intended safety function, and if the licensees are in compliance with the regulations.

DATES: Submit comments by May 12, 2014. Comments received after this date will be considered if it is practical to do so, but the Commission is able to assure consideration only for comments received on or before this date.

ADDRESSES: You may submit comments by any of the following methods (unless this document describes a different method for submitting comments on a specific subject):

• Federal Rulemaking Web site: Go to http://www.regulations.gov and search for Docket ID NRC-2014-0040. Address questions about NRC dockets to Carol Gallagher; telephone: 301-287-3422; email: Carol.Gallagher@nrc.gov. For technical questions, contact the individual(s) listed in the FOR FURTHER INFORMATION CONTACT section of this document.

• Mail comments to: Cindy Bladey, Chief, Rules, Announcements, and Directives Branch (RADB), Office of Administration, Mail Stop: 3WFN 06-44M, U.S. Nuclear Regulatory Commission, Washington, DC 20555-0001.

For additional direction on accessing information and submitting comments, see “Accessing Information and Submitting Comments” in the SUPPLEMENTARY INFORMATION section of this document.

FOR FURTHER INFORMATION CONTACT: Scott Krepel, Office of Nuclear Reactor Regulation, U.S. Nuclear Regulatory Commission, Washington, DC 20555-0001; telephone: 301-302-0399; email: Scott.Krepel@nrc.gov.

SUPPLEMENTARY INFORMATION:

I. Accessing Information and Submitting Comments

A. Accessing Information

Please refer to Docket ID NRC-2014-0040 when contacting the NRC about the availability of information regarding this document. You may access publicly-available information related to this action by any of the following methods:

• Federal rulemaking Web site: Go to http://www.regulations.gov and search for Docket ID NRC-2014-0040.

• NRC's Agencywide Documents Access and Management System (ADAMS): You may access publicly available documents online in the ADAMS Public Documents Collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

B. Submitting Comments

Please include Docket ID NRC-2014-0040 in the subject line of your comment submission, in order to ensure that the NRC is able to make your comment submission available to the public in this docket.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

The NRC is issuing Generic Letter NRC-2014-0040, “Monitoring of Neutron-Absorbing Materials in Spent Fuel Pools,” (ADAMS Accession No. ML13100A086) to request submittal of information from the stated licensees regarding the credited neutron-absorbing materials in the spent fuel pool (SFP) and associated surveillance or monitoring programs. Recent operating experience and regulatory actions have shown some gaps in the NRC knowledge base and regulatory guidance associated with management of the effects of aging on the neutron-absorbing materials in the SFP. Follow-up investigations of the identified gaps resulted in some NRC concerns with existing methods used in the industry to ensure compliance with the nuclear criticality safety (NCS) requirements in § 50.68 of Title 10 of the Code of Federal Regulations (10 CFR) and in General Design Criterion 62 (found in Appendix A of 10 CFR Part 50). In light of recent findings related to neutron-absorbing material degradation and uncertainties in the tools used to monitor the current condition of neutron-absorbing materials in the SFP, the NRC decided to request detailed information in order to verify compliance with the applicable NCS requirements and to determine if any further regulatory action is necessary. The draft generic letter contains a more detailed discussion of the issues involved and the information being requested.

III. Cumulative Effects of Regulation

The NRC is considering the cumulative effects of regulation (CER) as they relate to this Generic Letter. The CER considers the challenges licensees face in addressing the implementation of new regulatory positions, programs, and requirements (e.g., rulemaking, guidance, backfits, inspections). The CER initiative stems from the total burden imposed on licensees by the NRC from simultaneous or consecutive regulatory actions that can adversely affect the licensee's capability to implement those requirements while continuing to operate or construct its facility in a safe and secure manner. The NRC proposed several rulemaking process enhancements to address CER in SECY-11-0032, “Consideration of the Cumulative Effects of Regulation in the Rulemaking Process,” dated October 11, 2011 (ADAMS Accession No. ML112840466). In SECY-12-0137, “Implementation of the Cumulative Effects of Regulation Process Changes,” dated October 5, 2012 (ADAMS Accession No. ML12223A162) built upon the recommendations in SECY-11-0032. In its Staff Requirements Memorandum to SECY-12-0137 (ADAMS Accession No. ML13071A635), the Commission directed the staff to, among other items, “continue to develop and implement outreach tools that will allow NRC to consider more completely the overall impacts of multiple rules, orders, generic communications, advisories, and other regulatory actions on licensees and their ability to focus effectively on items of greatest safety importance.”

With regard to this generic letter, the NRC requests that licensees comment about any CER challenges they may face. Specifically, the NRC requests comment on the following questions:

a. In light of any current or projected cumulative effects, does this generic letter request provide sufficient time for licensees to respond with the information requested, including any need to develop this information through supporting engineering calculation or analyses?

b. If a current or projected cumulative effect poses a significant challenge, what should be done to address it? For example, if more time is required to develop and provide the information, what period of time is sufficient? Are there equally effective alternatives to providing the requested information to the NRC that reduce the cumulative effects?

c. Do other (NRC or other regulatory agency) regulatory actions (e.g., Orders, rules, generic letter, bulletins, 50.54(f) requests) influence licensee responses to this draft generic letter? If so what are they and do you have a suggested approach to reduce the cumulative effects in light of these other regulatory actions?

d. Are there other projects that licensees are undertaking, plan to undertake, or should be undertaking that provide greater safety benefit, that might be displaced or delayed as a result of the expenditure of effort and resources to respond to this generic letter?

e. Are there unintended consequences associated with responding to this generic letter at this time?

f. Please comment on the NRC's supporting justification for this generic letter.

IV. Public Meeting

The NRC plans to hold an informational public meeting approximately 45 days into the public comment period to discuss draft Generic Letter NRC-2014-0040, “Monitoring of Neutron-Absorbing Materials in Spent Fuel Pools”, and to obtain feedback from members of the public. The public meeting will be transcribed by a court reporter. The public meeting notice will be made available electronically in ADAMS and posted on the NRC's Public Meeting Schedule Web site at http://www.nrc.gov/public-involve/public-meetings/index.cfm. The agenda for the public meeting will be noticed no fewer than 10 days prior to the meeting on the Public Meeting Schedule Web site. Any meeting updates or changes will be made available on this Web site. Information regarding topics to be discussed, changes to the agenda, whether the meeting has been cancelled or rescheduled, and the time allotted for public comments can be obtained from the Public Meeting Schedule Web site. Comments regarding the draft Generic Letter must be submitted in accordance with paragraph I.B of this document. Comments from the public meeting will not be considered as official comments to this Federal Register notice.

Dated at Rockville, Maryland, this 27th day of February, 2014.
For the Nuclear Regulatory Commission.
Sheldon Stuchell,
Acting PGCB Branch Chief, Generic Communications Branch, Division of Policy and Rulemaking, Office of Nuclear Reactor Regulation.

[FR Doc. 2014-05236 Filed 3-10-14; 8:45 am]

BILLING CODE 7590-01-P